DEPARTMENT OF HOMELAND SECURITY

U.S. Immigration and Customs Enforcement

[OMB Control Number 1653-0054]

Agency Information Collection Activities; Extension, Without Change, of a Currently Approved Collection: Training Plan for Science, Technology, Engineering, and Mathematics (STEM) Optional Practical Training (OPT) Students

AGENCY: U.S. Immigration and Customs Enforcement, Department of Homeland Security.

ACTION: 30-Day notice.

SUMMARY: In accordance with the Paperwork Reduction Act (PRA) of 1995 the Department of Homeland Security (DHS), U.S. Immigration and Customs Enforcement (ICE) will submit the following Information Collection Request (ICR) to the Office of Management and Budget (OMB) for review and clearance. This information collection was previously published in the Federal Register on March 20, 2025, allowing for a 60-day comment period. ICE received forty-six comments. The burden totals have been adjusted from the 60-day notice based on revised estimates. The purpose of this notice is to allow an additional 30 days for public comments.

DATES: Comments are encouraged and will be accepted until July 2, 2025.

ADDRESSES: Written comments and recommendations for the proposed information collection should be sent within 30 days of the publication of this notice to www.reginfo.gov/public/do/PRAMain. Find this particular information collection by selecting “Currently under 30-day Review—Open for Public Comments” or by using the search function.

FOR FURTHER INFORMATION CONTACT: If you have questions related to this collection, call or email Sharon Snyder, Student and Exchange Visitor Program (SEVP), 703-603-3400 or 1-800-892-4829, email: sevp@ice.dhs.gov.

SUPPLEMENTARY INFORMATION:

Comments

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension, Without Change, of a Currently Approved Collection.

(2) Title of the Form/Collection: Training Plan for STEM OPT Students.

(3) Agency form number, if any, and the applicable component of the Department of Homeland Security sponsoring the collection: Form I-983; U.S. Immigration and Customs Enforcement.

(4) Affected public who will be asked or required to respond, as well as a brief abstract: Primary: Individuals or households. The Form I-983 serves as a planning document for STEM OPT students, the SEVP-certified school, and the employer. The Training Plan for STEM OPT Students also serves as an evidentiary document for SEVP, by tracking the STEM OPT student's progress, setting forth the terms and conditions of the practical training, and documenting the obligations of the three parties that are involved—the F student, the SEVP-certified school, and the employer.

The student and the employer must each complete and sign their part of the Form I-983. The SEVP-certified school will incorporate the completed and signed Form I-983 as part of the student's school file. The SEVP-certified school will make the student's Form I-983 available to DHS upon request.

Additionally, ICE is reformatting the Form I-983 to improve the collection of school officials' contact information and students' compensation while on STEM OPT.

(5) An estimate of the total number of respondents and the amount of time estimated for an average respondent to respond:

Table 1—Calculation of Annual Reporting Burden for Training Plan
Function | Average annual responses | Time per response (hours) | Average annual hour burden
Student Burden
Initial Completion of Training Plan | 122,101 | 2.17 | 264,959
12-month Evaluation Requirements | 122,101 | 1.50 | 183,152
Subtotal |  |  | 488,111
DSO Burden
Initial Review of Training Plan & Recordkeeping | 122,101 | 1.33 | 162,394
Review of Evaluation & Recordkeeping | 122,101 | 1.33 | 162,394
Subtotal |  |  | 324,788
Employer Burden
Initial Completion of Training Plan | 122,101 | 4.00 | 488,404
Evaluation Requirements | 122,101 | 0.75 | 91,576
Subtotal |  |  | 579,980
Total Burden Hours |  |  | 1,352,879

(6) An estimate of the total public burden (in hours) associated with the collection: 1,352,879 annual burden hours.

Dated: May 28, 2025.
Scott Elmore,
PRA Clearance Officer.

[FR Doc. 2025-09891 Filed 5-30-25; 8:45 am]

BILLING CODE 9111-28-P